NATIONAL AERONAUTICS AND SPACE ADMINISTRATION

[Notice (02-036)]

NASA Advisory Council, Task Force on International Space Station Operational Readiness; Meeting

AGENCY: National Aeronautics and Space Administration.

ACTION: Notice of meeting.

SUMMARY: In accordance with the Federal Advisory Committee Act, Public Law 92-463, as amended, the National Aeronautics and Space Administration announces an open meeting of the NASA Advisory Council, Task Force on International Space Station Operational Readiness.

DATES: Wednesday, April 3, 2002, 7 p.m.-8 p.m. Eastern Standard Time.

ADDRESSES: This meeting will be conducted via teleconference; hence participation will require contacting Mr. Philip Cleary (202/358-4461) before 12 noon Eastern, April 2, 2002, and leaving your name, affiliation, and phone number.

FOR FURTHER INFORMATION CONTACT: Mr. Philip Cleary, Code IC, National Aeronautics and Space Administration, Washington, DC 20546-0001, 202/358-4461.

SUPPLEMENTARY INFORMATION: This meeting will be open to the public up to the capability of the teleconferencing system. The agenda for the meeting is as follows:

—To assess the operational readiness of the International Space Station to support the new crew and the American and Russian flight team's preparedness to accomplish the Expedition Five mission.

It is imperative that the meeting be held on this date to accommodate the scheduling priorities of the key participants.

Sylvia K. Kraemer,
Advisory Committee Management Officer, National Aeronautics and Space Administration.

[FR Doc. 02-6025 Filed 3-12-02; 8:45 am]

BILLING CODE 7510-01-P